DEPARTMENT OF ENERGY

Federal Energy Regulatory Commission

Combined Notice of Filings #1

Take notice that the Commission received the following electric corporate filings:

Docket Numbers: EC23-115-000.

Applicants: Stony Creek Wind Farm, LLC, RWE Investco Mgmt, LLC.

Description: Application for Authorization Under Section 203 of the Federal Power Act of Stony Creek Wind Farm, LLC.

Filed Date: 8/4/23.

Accession Number: 20230804-5182.

Comment Date: 5 p.m. ET 8/25/23.

Docket Numbers: EC23-116-000.

Applicants: Sun Streams, LLC, Sunshine Valley Solar, LLC, Potentia US Solar Fund 2, LLC.

Description: Joint Application for Authorization Under Section 203 of the Federal Power Act of Sun Streams, LLC, et al.

Filed Date: 8/4/23.

Accession Number: 20230804-5184.

Comment Date: 5 p.m. ET 8/25/23.

Take notice that the Commission received the following electric rate filings:

Docket Numbers: ER10-2507-019; ER10-2074-009; ER10-2097-011.

Applicants: KCP&L Greater Missouri Operations Company, Kansas City Power & Light Company, Westar Energy, Inc.

Description: Notice of Change in Status of Evergy Kansas Central, Inc., et al.

Filed Date: 7/28/23.

Accession Number: 20230728-5242.

Comment Date: 5 p.m. ET 8/18/23.

Docket Numbers: ER23-1241-002.

Applicants: IP Oberon, LLC.

Description: Notice of Non-Material Change in Status of IP Oberon, LLC.

Filed Date: 7/28/23.

Accession Number: 20230728-5241.

Comment Date: 5 p.m. ET 8/18/23.

Docket Numbers: ER23-2139-001.

Applicants: Interstate Power and Light Company.

Description: Tariff Amendment: Interstate Power and Light Lansing Retirement Amendment to be effective 8/14/2023.

Filed Date: 8/7/23.

Accession Number: 20230807-5015.

Comment Date: 5 p.m. ET 8/28/23.

Docket Numbers: ER23-2509-000.

Applicants: Southwestern Public Service Company.

Description: § 205(d) Rate Filing: SPS-TTC-Utility Reloc Agrmt-729 R1-0.1.0 to be effective 7/29/2023.

Filed Date: 7/28/23.

Accession Number: 20230728-5170.

Comment Date: 5 p.m. ET 8/18/23.

Docket Numbers: ER23-2572-000.

Applicants: PJM Interconnection, L.L.C.

Description: § 205(d) Rate Filing: Original WMPA, SA No. 7025; Queue No. AG1-193 to be effective 10/4/2023.

Filed Date: 8/4/23.

Accession Number: 20230804-5134.

Comment Date: 5 p.m. ET 8/25/23.

Docket Numbers: ER23-2573-000.

Applicants: PJM Interconnection, L.L.C.

Description: § 205(d) Rate Filing: Original WMPA, SA No. 7026; Queue No. AF2-243 to be effective 10/4/2023.

Filed Date: 8/4/23.

Accession Number: 20230804-5137.

Comment Date: 5 p.m. ET 8/25/23.

Docket Numbers: ER23-2574-000.

Applicants: PJM Interconnection, L.L.C.

Description: § 205(d) Rate Filing: Notice of Cancellation of WMPA, SA No. 6328; Queue No. AG2-399 re: Breach to be effective 10/6/2023.

Filed Date: 8/7/23.

Accession Number: 20230807-5055.

Comment Date: 5 p.m. ET 8/28/23.

Docket Numbers: ER23-2575-000.

Applicants: Southern California Edison Company.

Description: § 205(d) Rate Filing: 2nd Amended LGIA, Sagebrush Solar 2-Cancel eTariff Record (TOT818/SA243) to be effective 10/7/2023.

Filed Date: 8/7/23.

Accession Number: 20230807-5057.

Comment Date: 5 p.m. ET 8/28/23.

Docket Numbers: ER23-2576-000.

Applicants: Alabama Power Company, Georgia Power Company, Mississippi Power Company.

Description: § 205(d) Rate Filing: Alabama Power Company submits tariff filing per 35.13(a)(2)(iii: O'Neal Solar (Solar + BESS) LGIA Filing to be effective 7/28/2023.

Filed Date: 8/7/23.

Accession Number: 20230807-5061.

Comment Date: 5 p.m. ET 8/28/23.

Docket Numbers: ER23-2577-000.

Applicants: Arizona Public Service Company.

Description: § 205(d) Rate Filing: Service Agreement No. 193, Amendment No. 5 to be effective 10/7/2023.

Filed Date: 8/7/23.

Accession Number: 20230807-5110.

Comment Date: 5 p.m. ET 8/28/23.

Take notice that the Commission received the following electric securities filings:

Docket Numbers: ES23-65-000.

Applicants: GridLiance West LLC.

Description: Application Under Section 204 of the Federal Power Act for Authorization to Issue Securities of GridLiance West LLC.

Filed Date: 8/3/23.

Accession Number: 20230803-5135.

Comment Date: 5 p.m. ET 8/24/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 7, 2023.
Debbie-Anne A. Reese,
Deputy Secretary.

[FR Doc. 2023-17248 Filed 8-10-23; 8:45 am]

BILLING CODE 6717-01-P